SURFACE TRANSPORTATION BOARD

[Docket No. AB 1346X]

West Belt Railway, LLC—Discontinuance of Service Exemption—in the City of St. Louis and St. Louis County, Mo

On June 30, 2025, West Belt Railway, LLC (WBRY), a Class III rail carrier, filed a petition under 49 U.S.C. 10502 for exemption from the prior approval requirements of 49 U.S.C. 10903 to discontinue service over: (1) the West Belt Industry Lead (the WBIL) from approximately milepost 1.07 at Adelaide Avenue to the end of track at approximately milepost 9.54; and (2) the Central Belt Industrial Lead from its point of connection to the WBIL at approximately milepost 9.54 to the end of track, all located in the City of St. Louis, and St. Louis County, Mo. (the Lines). The Lines traverse U.S. Postal Service Zip Codes 63147, 63155, 63120, 63121, 63133, 63130, and 63132.

WBRY has operated over the Lines under the terms of a lease with the Lines' owner, Terminal Railroad Association of St. Louis (TRRA). (Pet. 2); see W. Belt Ry.—Lease & Operation Exemption Including Interchange Commitment—Terminal R.R. Ass'n of St. Louis, FD 35972 (STB served Dec. 1, 2015). WBRY and TRRA have recently agreed to terminate the lease and arrange for TRRA to resume service over the Lines in place of WBRY. (Pet. 2.) In accordance with its obligations under the lease agreement, WBRY seeks authorization through its petition to discontinue its common carrier status and attendant obligations on the Lines. (Id.) WBRY asserts that no customer on the Lines will be deprived of common carrier service as a consequence of WBRY's proposed discontinuance. (Id.)

WBRY states that it does not believe that the Lines contain federally granted rights-of-way and that any documentation in its possession regarding federally granted rights-of-way will be made available promptly to those requesting it. (Id. at 4.)

Citing Manufacturers Railway Company—Discontinuance Exemption—in St. Louis County, Mo., AB 1075X (STB served Feb. 5, 2013) and Central Texas & Colorado River Railway, LLC—Discontinuance Exemption—in McCulloch, San Saba, Mills, & Lampasas Counties, Tex., AB 1272X (STB served Apr. 27, 2022), WBRY asserts that it is entitled to relief from labor protective conditions because WBRY is seeking discontinuance of service over the entirety of its system and will have no residual interest in railroad assets or any other regulated operations.

By issuance of this notice, the Board is instituting an exemption proceeding pursuant to 49 U.S.C. 10502(b). A final decision will be issued by October 17, 2025.

Because this is a discontinuance proceeding and not an abandonment, interim trail use/railbanking and public use conditions are not appropriate. Because there will be environmental review during any subsequent abandonment, this discontinuance does not require an environmental review. See 49 CFR 1105.6(c)(5), 1105.8(b).

Any offer of financial assistance (OFA) for subsidy under 49 CFR 1152.27(b)(2) will be due no later than 120 days after the filing of the petition for exemption, or 10 days after service of a decision granting the petition for exemption, whichever occurs sooner.¹ Persons interested in submitting an OFA must first file a formal expression of intent to file an offer by July 28, 2025, indicating the intent to file an OFA for subsidy and demonstrating that they are preliminarily financially responsible. See 49 CFR 1152.27(c)(1)(i).

¹ The filing fee for OFAs can be found at 49 CFR 1002.2(f)(25).

All filings in response to this notice must refer to Docket No. AB 1346X and must be filed with the Surface Transportation Board either via e-filing on the Board's website or in writing addressed to 395 E Street, SW, Washington, DC 20423-0001. In addition, a copy of each pleading must be served on WBRY's representative, Robert A. Wimbish, Fletcher & Sippel LLC, 29 North Wacker Drive, Suite 800, Chicago, IL 60606. Replies to the petition are due on or before August 7, 2025.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0294. If you require an accommodation under the Americans with Disabilities Act, please call (202) 245-0245.

Board decisions and notices are available at www.stb.gov.

Decided: July 15, 2025.
By the Board, Scott M. Zimmerman, Acting Director, Office of Proceedings.
Aretha Laws-Byrum,
Clearance Clerk.

[FR Doc. 2025-13493 Filed 7-17-25; 8:45 am]

BILLING CODE 4915-01-P